DEPARTMENT OF THE INTERIOR

Fish and Wildlife Service

[FWS-R8-ES-2018-N066; FXES11140800000-189-FF08EACT00]

Safe Harbor Agreements for the Northern Spotted Owl for Eden Property and RPH Comptche Properties, Mendocino County, California

AGENCY: Fish and Wildlife Service, Interior.

ACTION: Notice of availability and receipt of application.

SUMMARY: This notice advises the public that Jennifer and Jonathan Eden and RPH Comptche Property LLC (two separate applicants) have each applied to the U.S. Fish and Wildlife Service (Service) for an enhancement of survival (EOS) permit under the Endangered Species Act. If granted, either or both EOS permits would be in effect for a 40-year period in Mendocino County, California, and would authorize take of the northern spotted owl that is likely to occur incidental to managing the timber on their properties under periodic (approximately 10-year harvest intervals) uneven-aged forestry management practices of single-tree and group selection. The documents available for review and comment are the applicants' safe harbor agreements and our draft environmental action statements and low-effect screening forms, which support categorical exclusions under the National Environmental Policy Act. We invite comments from the public and Federal, Tribal, State, and local governments.

DATES: Submitting Comments: To ensure consideration, we must receive written comments by 5 p.m. on March 27, 2019.

ADDRESSES: Obtaining Documents: For either or both of the applicants, you may obtain the applicants' safe harbor agreements and our draft environmental action statements and low-effect screening forms by one of the following methods.

• U.S. Mail: U.S. Fish and Wildlife Service, 1655 Heindon Road, Arcata, CA 95521;

• In Person: You may visit our Arcata office (address above). To make an appointment, contact the office by telephone at 707-822-7201.

Submitting Comments: You may submit written comments by any one of the following methods.

• U.S. Mail or Hand-Delivery: Dan Everson, Field Supervisor, at our Arcata office (address above).

• Electronic mail: fw8_afwo_comments@fws.gov; in email subject line, please indicate which safe harbor agreement on which you are commenting.

• Fax: 707-822-8411.

FOR FURTHER INFORMATION CONTACT: Mr. Bill McIver, at our Arcata office (address above), or by telephone at 707-822-7201. If you use a telecommunications device, please call the Federal Relay Service at 800-877-8339.

SUPPLEMENTARY INFORMATION:

Background

Under safe harbor agreements (SHAs), participating landowners voluntarily undertake management activities on their properties to enhance, restore, or maintain habitat benefiting species listed under the Endangered Species Act of 1973, as amended (ESA; 16 U.S.C. 1531 et seq.). SHAs, and the subsequent enhancement of survival (EOS) permits that are issued pursuant to section 10(a)(1)(A) of the ESA, encourage private and other non-Federal property owners to implement conservation efforts for listed species, by assuring property owners that they will not be subject to increased land use restriction as a result of efforts to attract or increase the numbers or distribution of a listed species on their property. Application requirements and issuance criteria for EOS permits through SHAs are found in title 50 of the Code of Federal Regulations at 50 CFR 17.22(c) and 17.32(c).

Applications

Eden Safe Harbor Agreement

We have worked with the Edens to develop an SHA for the creation and enhancement of habitat for the northern spotted owl on two parcels comprising the 242-acre Eden property, Mendocino County, California. The term of the proposed SHA is 40 years. Currently the property supports 143 acres of northern spotted owl nesting/roosting habitat and one northern spotted owl activity center. We anticipate that, under the northern spotted owl habitat creation and enhancement timber management regime proposed in the SHA, approximately 185 acres of nesting/roosting habitat and potentially up to two northern spotted owl activity centers could exist on the property at the end of 40 years.

RPH Comptche Properties LLC Safe Harbor Agreement

We have worked with the applicant to develop an SHA for the creation and enhancement of habitat for the northern spotted owl on the 120-acre RPH Comptche Properties (formerly, Herr et al. Ranch), Mendocino County, California. The term of the proposed SHA is 40 years. Currently the property supports 108 acres of northern spotted owl nesting/roosting habitat, 12 acres of grassland, and one northern spotted owl activity center. We anticipate that, under the northern spotted owl habitat creation and enhancement timber management regime proposed in the SHA, approximately 108 acres of nesting/roosting habitat and potentially as many as two northern spotted owl activity centers could exist on the property at the end of 40 years.

For both the Eden SHA and the RPH Comptche Properties LLC SHA, if more than one northern spotted owl activity center become established on the property, take of northern spotted owls associated with the effects of timber harvest on such additional northern spotted owl activity centers would be authorized under the incidental take permit during the 40-year permit term. At the end of the 40-year SHA and permit term, no further take of northern spotted owls would be allowed unless the SHA and incidental take permit are renewed or extended. The development and maintenance of high-quality functional habitat employing uneven-aged timber management practices in a matrix of private timberland subject to even-aged management regimes will provide a relatively stable habitat condition that we believe will provide high productivity for multiple generations of northern spotted owls. Therefore, the cumulative impact of the SHA and the activities it covers, which are facilitated by the allowable incidental take, are expected to provide a net conservation benefit to the northern spotted owl.

Public Availability of Comments

Written comments we receive become part of the administrative record associated with this action. Before including your address, phone number, email address, or other personal identifying information in your comment, you should be aware that your entire comment—including your personal identifying information—may be made publicly available at any time. While you can request in your comment that we withhold your personal identifying information from public review, we cannot guarantee that we will be able to do so. All submissions from organizations or businesses, and from individuals identifying themselves as representatives or officials of organizations or businesses, will be made available for public disclosure in their entirety.

Authority: We provide this notice under section 10(c) of the ESA and its implementing regulations (50 CFR 17.22 and 17.32) and the National Environmental Policy Act (42 U.S.C. 4321 et seq.) and its implementing regulations for the Department of the Interior (43 CFR part 46).

Daniel Everson,
Field Supervisor, Arcata Fish and Wildlife Office, Arcata, California.

[FR Doc. 2019-03194 Filed 2-22-19; 8:45 am]

BILLING CODE 4333-15-P